RAILROAD RETIREMENT BOARD

Agency Forms Submitted for OMB Review, Request for Comments

Summary: In accordance with the Paperwork Reduction Act of 1995 (44 U.S.C. Chapter 35), the Railroad Retirement Board (RRB) is forwarding an Information Collection Request (ICR) to the Office of Information and Regulatory Affairs (OIRA), Office of Management and Budget (OMB) to request an extension of a currently approved collection of information: 3220-0097, consisting of Form UI-1e, Pay Rate Report. Our ICR describes the information we seek to collect from the public. Review and approval by OIRA ensures that we impose appropriate paperwork burdens.

The RRB invites comments on the proposed collection of information to determine (1) the practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Under Section 2(a) of the Railroad Unemployment Insurance Act, the daily benefit rate for unemployment and sickness benefits depends on the claimant's last daily rate of pay in the base year. The procedures pertaining to the use of a claimant's daily pay rate in determining the daily benefit rate are prescribed in 20 CFR part 330.

The RRB utilizes Form UI-1e, Request for Pay Rate Information, to obtain information from a claimant about their last railroad employer and pay rate, when it is not available from other RRB records. Form UI-1e also explains the possibility of receiving a higher daily benefit rate if claimants report their daily rate of pay for railroad work in the base year. Completion is required to obtain or retain benefits. One response is requested of each respondent.

Previous Requests for Comments: The RRB has already published the initial 60-day notice (72 FR 9594 on March 2, 2007) required by 44 U.S.C. 3506(c)(2). That request elicited no comments.

Information Collection Request (ICR)

Title: Pay Rate Report.

OMB Control Number: 3220-0097.

Form(s) submitted: UI-1e.

Type of request: Extension of a currently approved collection.

Affected public: Individuals or households.

Abstract: Under the Railroad Unemployment Insurance Act, the daily benefit rate for unemployment and sickness benefits depends on the employee's last daily rate of pay. The report obtains the claimed rate of pay from the employee that is used to determine whether an increase in the daily benefit rate is due.

Changes Proposed: The RRB proposes no changes to Form UI-45.

The burden estimate for the ICR is as follows:

Estimated Completion Time for Form UI-1e: 5 minutes.

Estimated annual number of respondents: 350.

Total annual responses: 350.

Total annual reporting hours: 29.

Additional Information or Comments: Copies of the forms and supporting documents can be obtained from Charles Mierzwa, the agency clearance officer (312-751-3363) or Charles.Mierzwa@rrb.gov.

Comments regarding the information collection should be sent to Ronald J. Hodapp, Railroad Retirement Board, 844 North Rush Street, Chicago, Illinois 60611-2092 or Ronald.Hodapp@RRB.GOV, and to the Office of Management Budget at ATTN: Desk Officer for RRB, Fax: (202) 395-6974 or via e-mail to OIRA_Submission@omb.eop.gov.

Charles Mierzwa,
Clearance Officer.

[FR Doc. E7-16592 Filed 8-21-07; 8:45 am]

BILLING CODE 7905-01-P